DEPARTMENT OF TRANSPORTATION

Federal Aviation Administration

Third RTCA SC-236 Joint Plenary With EUROCAE WG-96

AGENCY: Federal Aviation Administration (FAA), U.S. Department of Transportation (DOT).

ACTION: Third RTCA SC-236, Wireless Airborne Intra Communications (WAIC), joint Plenary with EUROCAE WG-96.

SUMMARY: The FAA is issuing this notice to advise the public of a meeting of Third RTCA SC-236, Wireless Airborne Intra Communications (WAIC), joint Plenary with EUROCAE WG-96.

DATES: The meeting will be held November 28-December 1, 2017 9:00 a.m.-5:00 p.m.

ADDRESSES: The meeting will be held at: EASA Headquarters, Konrad-Adenauer-Ufer 3, D-50668 Cologne, Germany.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Third RTCA SC-236 joint Plenary with EUROCAE WG-96. The agenda will include the following:

Tuesday, November 28, 2017—9:00AM-5:00PM

1. Welcome/Administrative Duties

2. IPR/Membership Call-Out and Introductions

3. Acceptance of Meeting Minutes for the Second Joint Plenary of SC-236/WG-96

4. Review Plenary Agenda and Sub-Working Group Schedule

5. Break Into Sub-Working Group Meetings When Plenary Business Complete

6. Reports of the Sub-Working Groups

7. Review of Special Committee Schedule

8. New Business Discussions

9. Review of Action Items

10. Plan for Next Meeting

11. Adjourn

Wednesday, November 29, 2017—9:00AM-5:00PM

12. Continue With Plenary or Sub-Working Group Meetings

Thursday, November 30, 2017—9:00AM-5:00PM

13. Continue With Plenary or Sub-Working Group Meetings

Friday, December 1, 2017—9:00AM-12:00PM

14. Continue With Plenary or Sub-Working Group Meetings

Registration is required for attendance. Attendance is open to the interested public but limited to space availability. With the approval of the chairman, members of the public may present oral statements at the meeting. Persons wishing to attend or to present statements or obtain information should contact the person listed in the FOR FURTHER INFORMATION CONTACT section. Members of the public may present a written statement to the committee at any time. Issued in Washington, DC on

Dated: October 23, 2017.
Mohannad Dawoud,
Management & Program Analyst, Partnership Contracts Branch, ANG-A17, NextGen, Procurement Services Division, Federal Aviation Administration.

[FR Doc. 2017-23278 Filed 10-25-17; 8:45 am]

BILLING CODE 4910-13-P